NATIONAL SCIENCE FOUNDATION

Sunshine Act Meeting; National Science Board; Commission on 21st Century Education in Science, Technology, Engineering, and Mathematics; Notification of a Public Federal Advisory Committee Meeting of the Commission on 21st Century Education in Science, Technology, Engineering, and Mathematics; Sunshine Act

ACTION: Notice.

SUMMARY: The National Science Board is announcing a public Federal Advisory Committee meeting of the Commission on 21st Century Education in Science, Technology, Engineering, and Mathematics (the Commission).

DATES: The meeting will take place on August 3 and 4, 2006. The meeting will be held from 1:30 p.m. to no later than 5:30 p.m. on August 3 and from 8:30 a.m. to no later than 12:30 p.m. on August 4. The public is welcome to attend.

ADDRESSES: The meeting will be held at the National Science Foundation, National Science Board Boardroom (Suite 1235), 4201 Wilson Boulevard, Arlington, VA 22230.

Public Meeting Attendance: All visitors must report to the NSF reception desk with a photo ID at the 9th and N. Stuart Streets entrance to receive a visitor's badge.

FOR FURTHER INFORMATION CONTACT: Dr. Elizabeth Strickland, Commission Executive Secretary, National Science Board Office, 4201 Wilson Boulevard, Arlington, VA 22230; Phone: 703-292-4527; E-mail: estrickl@nsf.gov.

SUPPLEMENTARY INFORMATION: This notice is published in accordance with the provisions of the Federal Advisory Committee Act (FACA) (Pub. L. 92-463). The purpose of this Commission meeting is to develop a work plan for the Commission's activities and to receive briefings relating to science, technology, engineering, and mathematics education. Further information about the Commission may be found at http://www.nsf.gov/nsb.

Russell Moy,
Attorney Advisor.

[FR Doc. 06-6264 Filed 7-12-06; 3:19 pm]

BILLING CODE 7555-01-P